DEPARTMENT OF TRANSPORTATION

Coast Guard

[USCG-2000-7514]

National Preparedness for Response Exercise Program (PREP)

AGENCY: Coast Guard, DOT.

ACTION: Notice of availability and request for public comments.

SUMMARY: The U.S. Coast Guard, the Environmental Protection Agency, the Research and Special Programs Administration, and the Mineral Management Service, in concert with the States, the oil industry and concerned citizens, developed the Preparedness for Response Exercise Program (PREP). This notice announces the availability of the revised PREP Guidelines for comment and announces the participating agencies' intent to hold a public meeting in 2002.

DATES: Comments and related material must reach the Docket Management Facility on or before May 13, 2002.

ADDRESSES: To make sure that your comments and related material are not entered more than once in the docket, please submit them by only one of the following means:

(1) By mail to the Docket Management Facility, (USCG-2000-7514), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket, including the PEA, on the Internet at http://dms.dot.gov.

FOR FURTHER INFORMATION CONTACT: For questions on this notice and general information regarding the National Preparedness for Response Exercise Program (PREP) and the schedule, contact Mr. Robert Pond, Office of Response, Plans and Preparedness Division (G-MOR-2), U.S. Coast Guard Headquarters, 2100 Second St. SW., Washington, DC 20593-0001, telephone: 202-267-6603, facsimile: 202-267-4065, or email: rpond@comdt.uscg.mil.

The PREP Area exercise schedule and exercise design manuals are available on the Internet at http://www.uscg.mil/hq/g-m/gmhome.htm (see index, then oil response). To obtain a hard copy of the exercise design manual, contact Ms. Melanie Barber at the Research and Special Programs Administration, Office of Pipeline Safety, at 202-366-4560. The 1994 PREP Guidelines can be found on the following Web site: http://www.uscg.mil/hq/g-m/nmc/response/#PREP. Hard copies of the PREP Guidelines are available at no cost by writing or faxing the TASC DEPT Warehouse, 33141Q 75th Avenue, Landover, MD 20785, fax: 301-386-5394. The stock number of the manual is USCG-X0191. Please indicate the quantity when ordering. Quantities are limited to 10 per order.

If you have questions on viewing or submitting material to the docket, call Ms. Dorothy Beard, Chief, Dockets, Department of Transportation, telephone: 202-366-5149.

SUPPLEMENTARY INFORMATION:

Request for Comments

We encourage you to submit comments and related material. If you do so, please include your name and address, identify the docket number for this notice (USCG-2000-7514) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Background and Purpose

In 1994, the U.S. Coast Guard (USCG), the Environmental Protection Agency (EPA), the Research and Special Programs Administration (RSPA), and the Minerals Management Service (MMS) coordinated the development of the National Preparedness for Response Exercise Program (PREP) Guidelines. Through a series of public workshops involving representatives from many State governments, the regulated community, environmental interest groups, and the general public, the PREP Guidelines were crafted to reflect the consensus agreement of the entire oil spill response community regarding an appropriate exercise program, including exercise types, frequency, scope, and objectives. For their part, USCG, EPA, RSPA, and MMS agreed that while the PREP Guidelines are not regulatory, each agency would accept that an industry entity following the PREP Guidelines would be in compliance with the pollution response exercise requirements in 33 U.S.C. 1321(j). (For Coast Guard rules, see 33 CFR 154.1055(f) and 33 CFR 155.1060(h); for EPA rules, see 40 CFR 112.21; for RSPA rules, see 49 CFR 194; or for MMS rules, see 30 CFR 254).

Since 1994, USCG, EPA, RSPA, and MMS have hosted public workshops in 1995, 1997, and 2000, to review the PREP Guidelines and consider need for changes. The first two workshops endorsed preserving the 1994 PREP Guidelines without amendment. The 2000 workshop recommended consideration of amending the PREP Guidelines to clarify or amend certain exercise parameters and standards.

The National Schedule Coordination Committee (NSCC) requested comments to proposed changes to the 1994 PREP Guidelines that were posted on the Docket Management System Web site on July 3, 2001. Based on review of comments to those proposed changes, the NSCC has posted the proposed final draft changes to the PREP Guidelines to the docket and at the following Web sites: http://www.uscg.mil/hq/g-m/nmc/response/#PREP and http://www.uscg.mil/hq/nsfcc/nsfweb.

This proposed final draft is also available electronically or in hard copy from Mr. Robert Pond at the address indicated above. Based on the comments received in response to the July 3, 2001, draft, a public meeting to discuss proposed changes is not anticipated prior to publication of final revised PREP Guidelines in August 2002. The next public meeting to discuss PREP is scheduled on November 8, 2002, in Galveston, TX, in conjunction with Clean Gulf 2002.

Dated: February 28, 2002.
Joseph J. Angelo,
Director of Standards, Marine Safety and Environmental Protection.

[FR Doc. 02-6048 Filed 3-12-02; 8:45 am]

BILLING CODE 4910-15-P